DEPARTMENT OF STATE

[Public Notice 7544]

Announcement of Meeting of the International Telecommunication Advisory Committee

SUMMARY: This notice announces a meeting of the International Telecommunication Advisory Subcommittees (ITAC) on August 22, 2011, 10 a.m.-noon EDT, at the Department of State, 2201 C Street, NW., Washington, DC 20520, to seek advice from the telecommunications industry on: (a) The consultation of International Telecommunication Union, Telecommunication Standardization Sector Study Group 15, on whether draft Recommendation G.tp-oam (Operations, Administration and Maintenance mechanism for MPLS-TP in Packet Transport Network (PTN)) should be approved as a policy-level document; and (b) what policy position the United States should take at the December 2011 Study Group 15 meeting on this issue.

This meeting is open to the public as seating capacity allows. The public will have an opportunity to provide comments at this meeting. People desiring further information on this meeting or wishing to request reasonable accommodation may contact the Secretariat at minardje@state.gov.

Dated: August 3, 2011.
Marian R. Gordon,
International Communications & Information Policy, U.S. Department of State .

[FR Doc. 2011-20179 Filed 8-8-11; 8:45 am]

BILLING CODE 4710-07-P